DEPARTMENT OF TRANSPORTATION

Research and Innovative Technology Administration

Agency Information Collection; Activity Under OMB Review; National Ferry Database

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) described below is being forwarded to the Office of Management and Budget (OMB) for approval for a new information collection related to the Nation's ferry operations. The ICR describes the nature of the information collection and its expected burden. The Federal Register notice with a 60-day comment period soliciting comments on the following collection of information was published on August 30, 2005 (70 FR 51409) and the comment period ended on October 30, 2005. The 60-day notice produced no comments.

DATES: Written comments should be submitted by December 9, 2005.

FOR FURTHER INFORMATION CONTACT: Ms. June Taylor Jones, Passenger Travel Program Manager, Room 3430, RITA, BTS, Department of Transportation, 400 Seventh Street, SW., Washington, DC 20590-0001. Telephone (202) 366-4743, Fax (202) 493-0568 or e-mail june.jones@dot.gov.

SUPPLEMENTARY INFORMATION: Title: National Ferry Study.

Type of Request: Approval of a new information collection.

OMB Control Number: New.

Affected Public: Ferry operators nationwide.

Number of Respondents: 300.

Number of Responses: 300.

Total Annual Burden: 100 hours (Average estimate of 20 minutes to complete the survey for each of 300 resulting in a total of 6000 minutes or 100 hours).

Abstract: The Transportation Equity Act for the 21st Century (TEA—21) (Pub. L. 105-178), section 1207(c), directed the Secretary of Transportation to conduct a study of ferry transportation in the United States and its possessions. In 2000, the Federal Highway Administration (FHWA) Office of Intermodal and Statewide Planning conducted a survey of approximately 250 known ferry operators. The Safe, Accountable, Flexible Efficient Transportation Equity Act—A Legacy for Users (SAFETEA-LU; H.R. 3, Section 1801(e)) requires that the Secretary, acting through the BTS, shall establish and maintain a national ferry database containing information on routes, vessels, passengers and vehicles carried, funding sources and such other information as the Secretary considers useful. Data collection will rely on a written survey. An electronic version of the questionnaire will also be available to respondents on request. Data will be collected from the entire population of ferry operators (estimate 300 or less). The survey will ask respondents to provide information on: (1) Points served; (2) amount and source of Federal, State, and/or local funds used in the past 24 months; (3) type of ownership; (4) number of passengers and vehicles carried in the past 12 months; (5) any new routes expected to be added within the next five years; and (6) highways that are connected by the ferries. It is estimated that the survey will take, on average, 20 minutes to complete for a total burden of 100 hours (300 respondents*20 minutes/60 = 100 hours).

The National Ferry Database may collect business sensitive information. The confidentiality of these data will be protected under 49 CFR 7.17. In accordance with this regulation, only statistical and non-sensitive business information will be made available through publications and public use data files. The statistical public use data are intended to provide an aggregated source of information on ferry boat operations nationwide.

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street, NW., Washington, DC 20503, Attention: BTS Desk Officer.

Issued in Washington, DC on this 2nd day of November, 2005.
William Bannister,
Assistant Director, Office of Advanced Studies, Research and Advanced Technology Administration, Bureau of Transportation Statistics, Department of Transportation.

[FR Doc. 05-22355 Filed 11-8-05; 8:45 am]

BILLING CODE 4910-HY-P